DEPARTMENT OF JUSTICE

Notice of Lodging of Proposed Consent Decree Under the Clean Air Act

On September 29, 2016, the Department of Justice lodged a proposed Consent Decree with the United States District Court for the Northern District of California in the lawsuit entitled United States v. Chemoil Corporation, Civil Action No. 16-5538.

The United States alleges that in 2011, 2012, and 2013 Chemoil violated Section 211(o) of the Clean Air Act (“CAA”), 42 U.S.C. § 7545(o), and the Renewable Fuel Standard, 40 CFR part 80 (“RFS2”), by exporting renewable fuel without retiring at least 72.7 million Biomass-Based Diesel (D4) credits (Renewable Identification Numbers or “RINs”) which it was required to do in order to meet its Renewable Volume Obligation (“RVO”). The United States further alleges that Chemoil failed to submit to the Environmental Protection Agency required reports related to its export activity. To remedy these alleged violations, the proposed Consent Decree requires Chemoil to pay a civil penalty of $27 million and retire 65 million D4 RINs in addition to the 7.7 million RINs Chemoil retired in March of this year.

The publication of this notice opens a period for public comment on the Consent Decree. Comments should be addressed to the Assistant Attorney General, Environment and Natural Resources Division, Environmental Enforcement Section and should refer to United States v. Chemoil Corporation, D.J. Ref. No. 90-5-2-1-11066. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.00 (25 cents per page reproduction cost) payable to the United States Treasury.

Bob Brook,
Assistant Section Chief, Environmental Enforcement Section, Environment and Natural Resources Division.

[FR Doc. 2016-24020 Filed 10-4-16; 8:45 am]

BILLING CODE 4410-15-P